DEPARTMENT OF THE TREASURY

Submission for OMB Review; Comment Request

March 22, 2016

The Department of the Treasury will submit the following information collection requests to the Office of Management and Budget (OMB) for review and clearance in accordance with the Paperwork Reduction Act of 1995, Public Law 104-13, on or after the date of publication of this notice.

DATES: Comments should be received on or before April 25, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0233.

Type of Review: Reinstatement with change of a previously approved collection.

Title: Application for Automatic Extension of Time to File Certain Business Income Tax, Information, and Other Returns.

Abstract: Form 7004 is used by corporations and certain non-profit institutions to request an automatic 5-month or 6-month extension of time to file their income tax returns. The information is needed by IRS to determine whether Form 7004 was timely filed so as not to impose a late filing penalty in error and also to insure that the proper amount of tax was computed and deposited.

Estimated Total Annual Burden Hours: 44,324,250.

OMB Control Number: 1545-1834.

Type of Review: Extension without change of a currently approved collection.

Title: Revenue Procedure 2003-39, Section 1031 LKE (Like-Kind Exchanges) Auto Leasing Programs.

Abstract: Revenue Procedure 2003-39 provides safe harbors for certain aspects of the qualification under Sec. 1031 of certain exchanges of property pursuant to Like-Kind Exchange (LKE) Programs for federal income tax purposes.

Estimated Total Annual Burden Hours: 8,600.

OMB Control Number: 1545-2018.

Type of Review: Extension without change of a currently approved collection.

Title: Revenue Procedure 2006-31, Revocation of Election filed under I.R.C. 83(b).

Abstract: This revenue procedure sets forth the procedures to be followed by individuals who wish to request permission to revoke the election they made under Internal Revenue Code section 83(b).

Estimated Total Annual Burden Hours: 400.

OMB Control Number: 1545-2240.

Type of Review: Extension without change of a currently approved collection.

Title: Form 14145—IRS Applicant Contact Information.

Abstract: Form 14145 is used by the IRS Recruitment Office to collect contact information from individuals who may be interested in working for the IRS now, or at any time in the future (potential applicants).

Estimated Total Annual Burden Hours: 66,085.

Brenda Simms,
Treasury PRA Clearance Officer.

[FR Doc. 2016-06824 Filed 3-24-16; 8:45 am]

BILLING CODE 4830-01-P